DEPARTMENT OF AGRICULTURE

Forest Service

California Coast Provincial Advisory Committee (PAC)

AGENCY: Forest Service, USDA.

ACTION: Notice of meeting.

SUMMARY: The California Coast Provincial Advisory Committee (PAC) will meet on October 25 and 26, 2000, at the Best Western El Grande Banquet Room in Clearlake, California. The meeting will be held from 1 p.m. until 5 p.m. on Wednesday, October 25, and from 8 a.m. to 3:15 p.m. on Thursday, October 26. The Best Western El Grande is located at 15135 Lakeshore Drive in Clearlake.

Agenda items to be covered include: (1) Panel on State and Federal Watershed Analyses/restoration programs; (2) Panel discussion on the issue of restoring native fish populations and their habitat on federal lands in the Province; (3) Presentation on demographics of northern spotted owls in Marin County; (4) Regional Ecosystem Office (REO) update; (5) Videotape presentation of Redwood National Park road program; (6) Megram Fire Update; (7) IAC/PAC/REIC communication; (8) Draft action plan for the Province comprehensive road work/fisheries and watershed restoration plan; and (9) open public comment. All California Coast Provincial Advisory Committee meetings are open to the public. Interested citizens are encouraged to attend.

FOR FURTHER INFORMATION CONTACT: Direct questions regarding this meeting to James Fenwood, Forest Supervisor, or Phebe Brown, Province Coordinator, USDA, Mendocino National Forest, 825 N. Humboldt Avenue, Willows, CA 95988; (530) 934-3316.

Dated: September 19, 2000.
James D. Fenwood,
Forest Supervisor.

[FR Doc. 00-25711 Filed 10-5-00; 8:45 am]

BILLING CODE 3410-11-M